DEPARTMENT OF LABOR

Office of Workers' Compensation Programs

Proposed Extension of Existing Collection; Comment Request

ACTION: Notice.

SUMMARY: Currently, the Office of Workers' Compensation Programs is soliciting comments concerning the proposed collection: Application for Self-Insurance Under the Black Lung Benefits Act: Application or Renewal of Self-Insurance Authority (CM-2017), Financial Summary for Self-Insured Operators (CM-2017a) and Report of Claims Information for Self-Insured Operators (CM-2017b). A copy of the proposed information collection request can be obtained by contacting the office listed below in the addresses section of this Notice. This program helps to ensure that requested data can be provided in the desired format, reporting burden (time and financial resources) is minimized, collection instruments are clearly understood and the impact of collection requirements on respondents can be properly assessed.

DATES: Written comments must be submitted to the office listed in the address section below on or before May 2, 2022.

ADDRESSES: You may submit comments by mail, delivery service, or by hand to Ms. Anjanette Suggs, U.S. Department of Labor, 200 Constitution Avenue NW, Room S-3323, Washington, DC 20210; by fax to (202) 354-9660; or by Email to Suggs.Anjanette@dol.gov. Please use only one method of transmission for comments (mail/delivery, fax or Email). Please note that comments submitted after the comment period will not be considered.

SUPPLEMENTARY INFORMATION: The Department of Labor, as part of its continuing effort to reduce paperwork and respondent burden, conducts a pre-clearance consultation program to provide the general public and Federal agencies with an opportunity to comment on proposed and/or continuing collections of information in accordance with the Paperwork Reduction Act of 1995 (PRA95).

I. Background: The Department's regulations implementing the Black Lung Benefits Act (BLBA), 30 U.S.C. 901 et seq., may require parties to exchange all medical information about the minter they develop in connection with a claim for benefits, including information parties do not intent to submit as evidence in the claim. See 20 CFR 725.413. The rule helps protect a miner's health, assist unrepresented parties, and promote accurate benefit determinations. The potential parties to a BLBA claim include the benefits claimant, the responsible coal mine operator and its insurance carrier, and the Director, Office of Workers' Compensation Programs (OWCP). Under this rule, a party of a party's agent who receives medical information about the minter must send a copy to all other parties within 30 days after receipt or, if a hearing before an administrative law judge has already been scheduled, at least 20 days before the hearing. The exchanged information is entered into the record of the claim only if a party submits it into evidence.

The Department's authority to engage in information collection is specified in BLBA sections 413(b), 422(2) and 426(a). see 30 U.S.C. 923(b), 932(a) and 936(a). This information collection is currently approved for use through July 31, 2022.

II. Review Focus: The Department of Labor is particularly interested in comments which:

* Evaluate whether the proposed collection of information is necessary for the proper performance of the functions of the agency, including whether the information will have practical utility;

* evaluate the accuracy of the agency's estimate of the burden of the proposed collection of information, including the validity of the methodology and assumptions used;

* enhance the quality, utility and clarity of the information to be collected; and

* minimize the burden of the collection of information on those who are to respond, including through the use of appropriate automated, electronic, mechanical, or other technological collection techniques or other forms of information technology, e.g., permitting electronic submissions of responses.

III. Current Actions: The Department of Labor seeks approval for the extension of this currently-approved information collection. The collection is necessary to give miners full access to information about their health, assist unrepresented claimants, and reach accurate benefit determinations under the BLBA.

Agency: Office of Workers' Compensation Programs.

Type of Review: Extension.

Title: Application for Self-Insurance under the Black Lung Benefits Act.

OMB Number: 1240-0057.

Affected Public: Business entities or other for-profit institutions.

Total Respondents: 49.

Total Annual Responses: 294.

Average Time per Response: 20 minutes to 2 hours (.89 average burden hours).

Estimated Total Burden Hours: 262 hours.

Frequency: Annually and quarterly.

Total Burden Cost (capital/startup): $0.

Total Burden Cost (operating/maintenance): $5,850.46.

Comments submitted in response to this notice will be summarized and/or included in the request for Office of Management and Budget approval of the information collection request; they will also become a matter of public record.

Anjanette Suggs,
Agency Clearance Officer, Office of Workers' Compensation Programs, U.S. Department of Labor.

[FR Doc. 2022-04365 Filed 3-1-22; 8:45 am]

BILLING CODE 4510-CK-P